DEPARTMENT OF HEALTH AND HUMAN SERVICES

Announcement of the Availability of Funds and Request for Applications for a Cooperative Agreement for a Project Titled Disease Prevention and Health Promotion Scholarship Program

AGENCY: Department of Health and Human Services, Office of the Secretary, Office of Public Health and Science, Office of Disease Prevention and Health Promotion.

ACTION: Notice.

Announcement Type: Competitive Cooperative Agreement.

Agency Funding Opportunity Number: N/A.

Catalog of Federal Domestic Assistance (CFDA) Number: 93.990.

DATES: To receive consideration, applications must be received by the Office of Grants Management, Office of Public Health and Science (OPHS), Department of Health and Human Services (DHHS), Attention Disease Prevention and Health Promotion Scholarship, no later than 5 p.m. Eastern Time on August 13, 2007. The application due date requirement in this announcement supersedes the instructions in the OPHS-1 form.

ADDRESSES: Application kits may be obtained electronically by accessing Grants.gov at http://www.grants.gov or GrantSolutions at www.GrantSolutions.gov. To obtain a hard copy of the application kit, contact OPHS/Office of Grants Management, 1101 Wootton Parkway, Suite 550, Rockville, MD 20852 at (240) 453-8822. Applications must be prepared using Form OPHS-1 “Grant Application,” which is included in the application kit.

SUMMARY:

Total Amount Awarded: $600,000.

Total Number of Awards: One (1).

Description of Opportunity: The Office of Disease Prevention and Health Promotion (ODPHP)/Office of Public Health and Science (OPHS), announces a competitive cooperative agreement project titled Disease Prevention and Health Promotion Scholarship Program for up to $600,000, in the fiscal year (FY) 2007 for a 5 year period, subject to available funding. This project seeks to provide disease prevention and health promotion educational and training opportunities for medical and public health students; preventive medicine and primary care residents; and practicing physicians and public health professionals.

Eligibility: To qualify for funding, an applicant must be a professional non-profit organization, association, or institute of higher learning that focuses or has as its mission to educate one or more of the following groups: Medical and/or public health students, preventive medicine and primary care residents; and practicing physicians from communities across the country. Eligible applicants are also encouraged to apply in partnerships. Faith-based groups that meet the definition of professional non-profit organization or institution of higher learning as described above are also eligible to apply.

FOR FURTHER INFORMATION CONTACT: For Administrative Requirements, Please Contact: OPHS/Office of Grants Management, 1101 Wootton Parkway, Suite 550, Rockville, MD 20852; phone 240-453-8822.

For Programmatic Requirements, Please Contact: Cecilia Penn, MD, MPH; or Sarah Linde-Feucht, MD, 1101 Wootton Pkwy, Suite LL 100, Rockville, MD 20852. Phone: 240-453-8251; 240-453-8256.

SUPPLEMENTARY INFORMATION:

Section I. Funding Opportunity Description

Under authority of Section 301, Title III of the U.S. Public Health Service Act: General Powers and Duties of the Public Health Service, 42 U.S.C. Section 301, ODPHP/OPHS, of the U.S. Department of Health and Human Services (HHS), announces a total of $600,000 for fiscal year (FY) 2007 is available for a competitive cooperative agreement project entitled Disease Prevention and Health Promotion Scholarship Program. This project supports several focus areas of Healthy People 2010 specifically, Access to Quality Health Services; Educational and Community-Based Programs; Health Communication; and Public Health Infrastructure.

Purpose

The purpose of this cooperative agreement is to enhance core competencies in disease prevention and health promotion for medical and public health students, residents, physicians, and public health professionals. Measurable outcomes will include: (1) Increased knowledge of public health issues; (2) increased understanding of process, content, value, and use of policies, programs and initiatives aimed to support the Nation's health goals; for example Healthy People 2010, (Healthy People 2020 (under development)), and HealthierUS; (3) increased knowledge of and aptitude in the use of health information technology including healthfinder®, National Health Information Center (NHIC), and the Prevention Communication Research Database (PCRD); (4) increased experience in and knowledge of priority setting and bases for national policy decisions.

This project enables the Office of Disease Prevention and Health Promotion to fulfill its mission to lead and coordinate efforts within the Department of Health and Human Services related to disease prevention and health promotion. The use of cooperative agreements with public and private not-for-profit organizations facilitates the education of emerging and current public health professionals.

Section II. Award Information

a. Availability of Funds: $600,000 is expected to be available for FY 2007 to fund one cooperative agreement. This agreement is expected to begin September 1, 2007 and will be made for a 12-month budget period for up to 5 years pending availability of funding. Funding estimates may change. Awardee may make subcontract awards.

b. Cooperative Agreement: The administrative and funding instrument to be used for this program will be a cooperative agreement in which there will be substantial ODPHP/HHS scientific and programmatic involvement. Under the cooperative agreement, ODPHP will support and/or stimulate awardee activities by working with them in a non-directive partnership role. This will include formulation of a work plan, participation in stakeholder meetings, data analysis, evaluation design, and development of structure and content of educational activities. Awardee and ODPHP responsibilities are listed as follows:

c. Awardee Responsibilities: A successful applicant, with assistance from or in collaboration with ODPHP, will:

1. Develop, implement, and monitor education and training in disease prevention and health promotion through the Paul Ambrose Health Promotion Graduate Student Leadership Symposium.

i. Develop and execute a 2-3 day educational seminar for up to 40 selected first-year through fourth-year medical students, third-year through fourth-year pharmacy students, graduate nursing students, graduate physician assistant students, and graduate dentistry students to enhance their understanding of community-based health promotion and disease prevention strategies within the framework of Healthy People 2010 and 2020, as well as HealthierUS.

ii. Assist symposium students and their sponsoring institutions in the development of a specific health promotion or disease prevention project prior to and/or following the symposium by linking students to faculty at their institutions of higher learning engaged in disease prevention and health promotion activities.

iii. Provide a forum for students to share their progress and outcomes for their projects.

2. Develop, implement, manage, and monitor preventive medicine and primary care resident and practicing primary care clinician education in disease prevention and health promotion.

i. Convene a meeting at the start of each residency year (12 month period starting in June) and/or project year with relevant residency program directors, field placement/site mentors, and/or advisors to review program goals, objectives, and educational plans; to gain insight as to how to bolster this educational opportunity.

ii. Facilitate and structure an elective rotation for 2-3 months duration.

iii. Recruit and select 4-8 residents to participate in this elective rotation.

iv. Conduct and share with ODPHP an evaluation of resident experiences while at ODPHP.

3. Recruit, interview, and select a preventive medicine/primary care physician with public health background to be the Luther Terry Fellow every 2 years. The awardee will also provide a framework for identifying educational content and resources in the public health community for the fellowship development.

4. Recruit, interview, and select a maximum of 3 public health professionals to serve a 1-year fellowship/internship position to support ODPHP office teams: Health Communications, Science, or Community Strategies teams. The awardee will also provide a framework for identifying educational content and resources in the public health community for the fellowship/internship development.

5. Develop and execute a one-day workshop for selected public health professionals representing States, Territories, Tribes, and Communities to enhance their understanding and application of Healthy People 2010 and 2020, HealthierUS, and/or other prevention programs. (Designated Support-$200K)

6. Coordinate the abstract submission process for a National Prevention Summit or similar conference(s) utilizing an Abstract Management System capable of meeting goals established by ODPHP and conference co-planners for the conference(s).

7. Recruit and select 2 public health professionals (post 5 years of obtaining bachelors or masters' degree) for 6 months duration per fiscal year with specific skills or background in Social and Behavioral Sciences; Nutrition and Food Safety; Health Policy and Management; Population and International Health; or Prevention and Research Policy. These professionals would contribute to and engage in health policy development and initiatives within the Office.

8. Develop, present, and implement a proposal to expand disease prevention and health promotion education opportunities for primary care providers. This may include expanding continuing medical education or other mechanisms for education practitioners on principles of public health, disease prevention and health promotion.

d. ODPHP Responsibilities:

1. Provide technical assistance and oversight as necessary for overall design and implementation of the Disease Prevention and Health Promotion Scholarship Program.

2. Contribute to the development and approval of educational experiences, including materials and program activities for scholarship participants.

3. Provide location and mentorship for scholars on assignment at ODPHP.

4. Provide assistance in management of program strategies, directions, and any decisions related to adjustment in funding levels of participating institutions.

5. Participate in training and educational events.

6. Participate in the development and review of evaluation activities.

e. Use of Funds: Funds may not be used for construction or renovation, to purchase or lease vehicles or equipment, to purchase a facility to house project staff or carry out project activity, or to substitute new activities and expenditures for current ones.

Section III. Eligibility Information

1. Eligible Applicants: To qualify for funding, an applicant must be a professional non-profit organization, association, or institution of higher learning whose mission is to educate one or more of the following groups: medical and public health students, preventive medicine and primary care residents, public health professionals, and practicing clinicians from communities across the country. Eligible applicants also are encouraged to apply as partners and submit one joint application. Faith-based groups that meet the definition of professional non-profit organization or institutions of higher learning as described above are also eligible to apply.

2. Cost Sharing or Matching: Awardee will not be expected to match funds or share project costs.

Section IV. Application and Submission Information

1. Address to Request Application Kit: Application kits for this grant program may be obtained via Grants.gov at http://www.grants.gov or the GrantSolutions system at http://www.grantsolutions.gov. To obtain a hard copy of the application kit for this grant program, contact OPHS/Office of Grants Management, 1101 Wootton Parkway, Suite 550, Rockville, MD 20852, at (240) 453-8822. Applications must be prepared using Form OPHS-1, which can be obtained at the Web sites noted above.

2. Content and Form of Application Submission:

A. Application and Submission

All applications must be accompanied by a Project Abstract. The abstract should contain substantive information about the proposed projects in summary form and must be typed, single spaced, and not exceed 2 pages. A list of keywords and a format sheet for your use in preparing the abstract will be included in the application packet.

All grant applications must be accompanied by a Project Narrative. The applicant should refer to instructions provided in OPHS-1 (Rev 03/2006) and specific guidelines given in the Program Guidelines of the Application Packet. Biographical sketches should be either typed on the appropriate form or plain paper and should not exceed two pages, with publications listed being limited only to those that are directly relevant to this project.

Program Narrative: This section provides a comprehensive framework and description of all aspects of the proposed program. It should be succinct, self-explanatory, and well organized so that reviewers can understand the proposed project. Use the following section headers for the Narrative:

• Executive Summary: This section should briefly describe the proposed project and supporting initiatives as well as summarize goals that the program intends to achieve through the project initiatives.

• Work Plan: Describe the current and proposed activities or steps that will be used to achieve the stated goals and objectives. Describe expected outcomes resulting from activities as well as any evaluation mechanisms that will be used to measure the success of the initiatives.

• Mechanism for Administration: Describe how resources and funds will be administered with regard to the proposed projects.

• In-Kind Support and Resources: Describe any in-kind support from other sources, if any that will be used to support the proposed initiatives and activities.

• Appendices: Please provide the additional relevant information (including tables, charts, biographic profiles, and other relevant documents) to complete the content of the application. Please note that these are supplementary in nature, and are not intended to be a continuation of the project narrative. Be sure each appendix is clearly labeled.

B. Data Universal Numbering System Number (DUNS)

Applicants must have a Dun and Bradstreet (D&B) Data Universal Numbering System number as the universal identifier when applying for Federal grants. The D&B number can be obtained by calling (866) 705-5711 or through the Web site at http://www.dnb.com/us/.

Application Format Requirements

1. Length of Application: The entire application may not exceed 80 pages in length, including the abstract, project and budget narratives, face page, attachments, any appendices and letters of commitment and support. Pages must be numbered consecutively.

2. Applications submitted electronically that exceed 80 pages when printed will be deemed non-compliant. All non-compliant applications will be returned to the applicant without further consideration.

3. Number of Copies: Please submit one (1) original and two (2) unbound copies of the application. Please do not bind or staple the application. Application must be single sided.

4. Font: Please use an easily readable serif typeface, such as Times Roman, Courier, or CG Times. The text and table portions of the application must be submitted in not less than 12 point and 1.0 line spacing. Applications not adhering to 12 point font requirements may be returned.

5. Paper Size and Margins: For scanning purposes, please submit the application on 8½″ x 11″ white paper. Margins must be at least one (1) inch at the top, bottom, left and right of the paper. Please left-align text.

6. Numbering: Please number the pages of the application sequentially from page 1 (face page) to the end of the application, including charts, figures, tables, and appendices.

7. Names: Please include the name of the applicant on each page.

8. Section Headings: Please put all section headings flush left in bold type.

3. Submission Dates and Times

The Office of Public Health and Science (OPHS) provides multiple mechanisms for the submission of applications, as described in the following sections. Applicants will receive notification via mail from the OPHS Office of Grants Management confirming the receipt of applications submitted using any of these mechanisms. Applications submitted to the OPHS Office of Grants Management after the deadlines described below will not be accepted for review. Applications which do not conform to the requirements of the grant announcement will not be accepted for review and will be returned to the applicant.

While applications are accepted in hard copy, the use of the electronic application submission capabilities provided by the Grants.gov and GrantSolutions.gov systems is encouraged. Applications may only be submitted electronically via the electronic submission mechanisms specified below. Any applications submitted via any other means of electronic communication, including facsimile or electronic mail, will not be accepted for review.

In order to apply for new funding opportunities which are open to the public for competition, you may access the Grants.gov Web site portal. All OPHS funding opportunities and application kits are made available on Grants.gov. If your organization has/had a grantee business relationship with a grant program serviced by the OPHS Office of Grants Management, and you are applying as part of ongoing grantee related activities, please access GrantSolutions.gov.

Electronic grant application submissions must be submitted no later than 5 p.m. Eastern Time on the deadline date specified in the DATES section of the announcement using one of the electronic submission mechanisms specified below. All required hardcopy original signatures and mail-in items must be received by the OPHS Office of Grants Management (1101 Wootton Parkway, Suite 550, Rockville, MD 20852) no later than 5 p.m. Eastern Time on the next business day after the deadline date specified in the DATES section of the announcement.

Applications will not be considered valid until all electronic application components, hardcopy original signatures, and mail-in items are received by the OPHS Office of Grants Management according to the deadlines specified above. Application submissions that do not adhere to the due date requirements will be considered late and will be deemed ineligible.

Applicants are encouraged to initiate electronic applications early in the application development process, and to submit early on the due date or before. This will aid in addressing any problems with submissions prior to the application deadline.

Electronic Submissions Via the Grants.gov Web Site Portal

The Grants.gov Web site Portal provides organizations with the ability to submit applications for OPHS grant opportunities. Organizations must successfully complete the necessary registration processes in order to submit an application. Information about this system is available on the Grants.gov Web site, http://www.grants.gov.

In addition to electronically submitted materials, applicants may be required to submit hard copy signatures for certain Program related forms, or original materials as required by the announcement. It is imperative that the applicant review both the grant announcement, as well as the application guidance provided within the Grants.gov application package, to determine such requirements. Any required hard copy materials, or documents that require a signature, must be submitted separately via mail to the OPHS Office of Grants Management, and, if required, must contain the original signature of an individual authorized to act for the applicant agency and the obligations imposed by the terms and conditions of the grant award. When submitting the required forms, do not send the entire application. Complete hard copy applications submitted after the electronic submission will not be considered for review.

Electronic applications submitted via the Grants.gov Web site Portal must contain all completed online forms required by the application kit, the Program Narrative, Budget Narrative and any appendices or exhibits. All required mail-in items must received by the due date requirements specified above. Mail-In items may only include publications, resumes, or organizational documentation. When submitting the required forms, do not send the entire application. Complete hard copy applications submitted after the electronic submission will not be considered for review.

Upon completion of a successful electronic application submission via the Grants.gov Web site Portal, the applicant will be provided with a confirmation page from Grants.gov indicating the date and time (Eastern Time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the GrantSolutions system, and OPHS has no responsibility for any application that is not validated and transferred to OPHS from the Grants.gov Web site Portal. Grants.gov will notify the applicant regarding the application validation status. Once the application is successfully validated by the Grants.gov Web site Portal, applicants should immediately mail all required hard copy materials to the OPHS Office of Grants Management to be received by the deadlines specified above. It is critical that the applicant clearly identify the Organization name and Grants.gov Application Receipt Number on all hard copy materials.

Once the application is validated by Grants.gov, it will be electronically transferred to the GrantSolutions system for processing. Upon receipt of both the electronic application from the Grants.gov Web site Portal, and the required hardcopy mail-in items, applicants will receive notification via mail from the OPHS Office of Grants Management confirming the receipt of the application submitted using the Grants.gov Web site Portal.

Applicants should contact Grants.gov regarding any questions or concerns regarding the electronic application process conducted through the Grants.gov Web site Portal.

Electronic Submissions Via the GrantSolutions System

OPHS is a managing partner of the GrantSolutions.gov system. GrantSolutions is a full life-cycle grants management system managed by the Administration for Children and Families, Department of Health and Human Services (HHS), and is designated by the Office of Management and Budget (OMB) as one of the three Government-wide grants management systems under the Grants Management Line of Business initiative (GMLoB). OPHS uses GrantSolutions for the electronic processing of all grant applications, as well as the electronic management of its entire Grant portfolio.

When submitting applications via the GrantSolutions system, applicants are required to submit a hard copy of the application face page (Standard Form 424) with the original signature of an individual authorized to act for the applicant agency and assume the obligations imposed by the terms and conditions of the grant award. If required, applicants will also need to submit a hard copy of the Standard Form LLL and/or certain Program related forms (e.g., Program Certifications) with the original signature of an individual authorized to act for the applicant agency. When submitting the required forms, do not send the entire application. Complete hard copy applications submitted after the electronic submission will not be considered for review.

Electronic applications submitted via the GrantSolutions system must contain all completed online forms required by the application kit, the Program Narrative, Budget Narrative and any appendices or exhibits. The applicant may identify specific mail-in items to be sent to the Office of Grants Management separate from the electronic submission; however these mail-in items must be entered on the GrantSolutions Application Checklist at the time of electronic submission, and must be received by the due date requirements specified above. Mail-In items may only include publications, resumes, or organizational documentation. When submitting the required forms, do not send the entire application. Complete hard copy applications submitted after the electronic submission will not be considered for review.

Upon completion of a successful electronic application submission, the GrantSolutions system will provide the applicant with a confirmation page indicating the date and time (Eastern Time) of the electronic application submission. This confirmation page will also provide a listing of all items that constitute the final application submission including all electronic application components, required hardcopy original signatures, and mail-in items, as well as the mailing address of the OPHS Office of Grants Management where all required hard copy materials must be submitted.

As items are received by the OPHS Office of Grants Management, the electronic application status will be updated to reflect the receipt of mail-in items. It is recommended that the applicant monitor the status of their application in the GrantSolutions system to ensure that all signatures and mail-in items are received.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the OPHS Office of Grant Management on or before 5 p.m. Eastern Time on the deadline date specified in the DATES section of the announcement. The application deadline date requirement specified in this announcement supersedes the instructions in the OPHS-1. Applications that do not meet the deadline will be returned to the applicant unread.

4. Intergovernmental Review

This program is subject to the Public Health Systems Reporting Requirements. Under these requirements, a community-based non-governmental applicant must prepare and submit a Public Health System Impact Statement (PHSIS). The Applicant shall submit a copy of the application face page (SF-424) and a one page summary of the project, called the Public Health System Impact Statement. The PHSIS is intended to provide information to State and local health officials to keep them apprised on proposed health services grant applications submitted by community-based, non-governmental organizations within their jurisdictions.

Community-based, non-governmental applicants are required to submit, no later than the Federal due date for receipt of the application, the following information to the head of the appropriate State and local health agencies in the area(s) to be impacted: (a) A copy of the face page of the application (SF 424), (b) a summary of the project (PHSIS), not to exceed one page, which provides: (1) A description of the population to be served, (2) a summary of the services to be provided, and (3) a description of the coordination planned with the appropriate State or local health agencies. Copies of the letters forwarding the PHSIS to these authorities must be contained in the application materials submitted to the ODPHP/HHS.

This program is also subject to the requirements of Executive Order 12372 that allows States the option of setting up a system for reviewing applications from within their States for assistance under certain Federal programs. The application kit to be made available under this notice will contain a listing of States that have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC in each affected State. A complete list of SPOCs may be found at the following Web site: http://www.whitehouse.gov/omb/grants/spoc.html. The due date for State process recommendations is 60 days after the application deadline. The ODPHP/HHS does not guarantee that it will accommodate or explain its responses to State process recommendations received after that date. (See “Intergovernmental Review of Federal Programs,” Executive Order 12372, and 45 C.F.R. Part 100 for a description of the review process and requirements.)

5. Funding Restrictions

Funds may not be used for construction, building alterations, equipment purchase, medical treatment, renovations, or to purchase food. Allowance, allocation, rationale, and necessity of direct and indirect costs that may be charged are outlined in the following documents: OMB-21 (Institutes of Higher Education); OMB Circular A-122 (Nonprofit Organizations) and 45 CFR Part 74, Appendix E (Hospitals). Copies of these circulars can be found on the Internet at: http://www.whitehouse.gov/omb. All budget requests must be justified fully in terms of the proposed goals and objectives of the program and include an itemized computational explanation/breakout of how costs were determined.

Section V. Application Review Information

Applications will be screened by ODPHP staff for completeness and for responsiveness to the RFA. The Applicant should pay strict attention addressing these criteria, as they are the basis upon which applications will be judged. Those applications judged to be non-responsive or incomplete will be returned to the applicant without review.

1. Criteria

Applications that are complete and responsive to the guidance will be evaluated for technical merit by an appropriate peer review group specifically convened for this solicitation and in accordance with HHS policies and procedures. As part of the initial merit review, all applications will receive a written critique. All applications recommended for approval will be discussed fully by an ad hoc peer review group and assigned a priority score for funding. Eligible applications will be assessed according to the following criteria:

a. Education and Training Plan (30 Points)

The proposed goals and objectives in the Education Plan relate to the goal of increasing knowledge and use of disease prevention and health promotion materials and methods among the targeted levels of medical students/ residents and practitioners:

1. Extent to which the plan summarizes the state of disease prevention and health promotion education for medical students, preventive medicine and primary care residents, and practicing primary care physicians.

2. The extent to which disease prevention and health promotion lectures and applied experiences and opportunities exist in medical education and clinical practice.

3. Description of how the applicant develops each activity specific to the medical students, preventive medicine residents and primary care residents, and practicing physicians as outlined under Awardee Responsibilities.

4. Appropriateness and relationship of strategies and objectives to the overall goal and implementation of the required activities.

5. Appropriateness of specific, realistic, measurable and time-phased process and outcome objectives for each of the strategies to be implemented.

6. Relevancy of the evidentiary basis for the proposed strategies.

7. Degree to which the Healthy People 2010 and 2020 initiatives, corresponding Healthy People State plans, the Clinical and Community Guides to Preventive Services, and Healthier U.S. will be incorporated into proposed activities.

8. Where applicable, how proposed strategies and objectives are currently being implemented using other resources.

9. How applicant will leverage additional resources for implementation of components of the each educational/training activity.

b. Project Evaluation (20 Points)

1. Extent to which application describes how process and outcome objectives for all educational activities will be measured, evaluated and documented.

2. Identification of mechanisms to track: (1) The participants in the educational/training activities, (2) the effect(s) the activities have on the respective careers, and (3) use of clinical preventive services and participation in health promotional activities.

3. Feasibility and appropriateness of evaluation design;

4. Ability to share and disseminate project results.

c. Organizational Capabilities/Qualifications (20 Points)

1. The management and administrative structure of the applicant is explained. Evidence of the applicant's ability to manage a project of the proposed activities is well defined.

2. The application clearly demonstrates the successful management of projects of similar scope by the organization and or by the individual and/or team designated to manage the project.

3. The organization's active involvement in education and or training of the targeted groups is demonstrated.

4. Position descriptions and/or resumes of key personnel, including those of consultants/contractors, are presented. The position descriptions and/or resumes relate specifically to the staff in the proposed approach and budget of the application. Position descriptions clearly describe the position and its project objectives. Resumes demonstrate that proposed staff are qualified to carry out proposed activities. Either the position descriptions or the resumes contain the qualifications and/or specialized skills, necessary for overall quality management of the project. Resumes must be included if individuals have been identified for positions in the application.

d. Partnerships (15 Points)

1. List and description of partner organization(s) (if any) and its mission(s) and how the organization(s) supports the purposes of this cooperative agreement.

2. Description of how partners (if any) were selected and how they will contribute to the development, implementation, monitoring, and any modifications to the proposed activities over time.

e. Budget (15 Points)

A detailed, well-written, and fully justified budget which:

1. Includes sufficient details to facilitate the determination of cost and the relevance to the proposed activities;

2. Requests funds which are appropriate and necessary for the scope of the proposed activities; and

3. Demonstrates administrative efficiency and value which allows for the maximizing of resources for the proposed activities.

2. Review and Selection Process

Applications will be reviewed in competition with other submitted applications, by a panel of peer reviewers. Each of the above criteria will be addressed and considered by the reviewers in assigning the overall score. Final award will be made by September 1, 2007, on the basis of score, program relevance and availability of funds.

Section VI. Award Administration Information

1. Award Notices

ODPHP/HHS does not release information about individual applications during the review process until final funding decisions have been made. When these decisions have been made, applicants will be notified by letter regarding the outcome of their applications. The official document notifying an applicant that an application has been approved and funded is the Notice of Grant Award signed by the Grants Management Officer, which specifies to the awardee the amount of money awarded, the purpose of the agreement, the terms and conditions of the agreement, and the amount of funding.

2. Administrative and National Policy Requirements

The regulations set out at 45 CFR parts 74 and 92 are the Department of Health and Human Services (HHS) rules and requirements that govern the administration of grants. Part 74 is applicable to all recipients except those covered by part 92, which governs awards to State and local governments. The applicant funded under this announcement must be aware of and comply with these regulations. The CFR volume that includes parts 74 and 92 may be downloaded from: http://www.access.gpo.gov/nara/cfr/waisidx_05/45cfrv1_05.html.

The HHS Appropriations Act requires that when issuing statements, press releases, requests for proposals, bid solicitation, and other documents describing projects or programs funded in whole or in part with Federal money, grantees shall clearly state the percentage and dollar amount of the total cost of the program or project which will be financed with Federal money and the percentage and dollar amount of the total costs of the project or program that will be financed by non-governmental sources.

3. Reporting

All projects are required to have an evaluation plan, consistent with the scope of the proposed project and funding level that conforms to the project's stated goals and objectives. The evaluation plan should include both a process evaluation to track the implementation of project activities and an outcome evaluation to measure changes in knowledge and skills that can be attributed to the project. Project funds may be used to support evaluation activities.

A successful applicant under this notice will also submit (1) Semi-annual progress reports; (2) an annual Financial Status Report; and (3) a final progress report and Financial Status Report in the format established by ODPHP, in accordance with provisions of the general regulations which apply under “Monitoring and Reporting Program Performance,” 45 CFR 74.51-74.52, with the exception of State and local governments to which 45 CFR part 92, Subpart C reporting requirements apply.

In addition to conducting their own evaluation of projects, the successful applicant must be prepared to participate in an external evaluation, to be supported by ODPHP/HHS and conducted by an independent entity, to assess efficiency and effectiveness for the project funded under this announcement.

Section VII. Agency Contacts

For Application Kits, submission of applications, and information on budget and business aspects of the application, please contact: OPHS/Office of Grants Management, 1101 Wootton Parkway, Suite 550, Rockville, MD 20852 at (240) 453-8822. Also contact OPHS/Office of Grants Management with questions regarding programmatic information and/or requests for technical assistance in the preparation of the grant application.

For programmatic requirements, please contact: Cecilia Penn, MD, MPH; or Sarah Linde-Feucht, MD, 1101 Wootton Pkwy, Suite LL 100, Rockville, MD 20852, Phone: 240-453-8251; 240-453-8256.

Section VIII. Other Information

Tips for Writing a Strong Application

• Keep your audience in mind. Reviewers will use only the information contained in the application to assess the application. Be sure the application and responses to the program requirements and expectations are complete and clearly written. Do not assume that reviewers are familiar with the applicant organization. Keep the review criteria in mind when writing the application.

• Start preparing the application early. Allow plenty of time to gather required information from various sources.

• Follow the instructions in this guidance carefully. Place all information in the order requested in the guidance. If the information is not placed in the requested order, you may receive a lower score.

• Be brief, concise, and clear. Make your points understandable. Provide accurate and honest information, including candid accounts of problems and realistic plans to address them. If any required information or data is omitted, explain why. Make sure the information provided in each table, chart, attachment, etc., is consistent with the proposal narrative and information in other tables.

• Be organized and logical. Many applications fail to receive a high score because the reviewers cannot follow the thought process of the applicant or because parts of the application do not fit together.

• Be careful in the use of appendices. Do not use the appendices for information that is required in the body of the application. Be sure to cross-reference all tables and attachments located in the appendices to the appropriate text in the application.

• Carefully proofread the application. Misspellings and grammatical errors will impede reviewers in understanding the application. Be sure pages are numbered (including appendices) and that page limits are followed. Limit the use of abbreviations and acronyms, and define each one at its first use and periodically throughout application.

Dated: July 2, 2007.
Sarah Linde-Feucht,
Deputy Director, Office of Disease Prevention and Health Promotion.

[FR Doc. E7-13701 Filed 7-12-07; 8:45 am]

BILLING CODE 4150-32-P